DEPARTMENT OF TRANSPORTATION

Bureau of Transportation Statistics

[Docket No. BTS-2001-11069]

Reports of Motor Carriers; Notice of Requests for Exemptions From Public Release; Request for Comments

AGENCY: Bureau of Transportation Statistics (BTS), DOT.

ACTION: Notice.

SUMMARY: This Notice announces BTS’ receipt of exemption requests from the motor carriers listed below and invites public comments on the exemption requests. Class I and Class II for-hire motor carriers of property and household goods, with gross annual operating revenue of $3 million or more, are required to file annual reports with the BTS and Class I motor carriers must also file quarterly reports. As provided by statute, carriers may request that their reports be withheld from public release. BTS has opened a public docket and is inviting comments on the exemption requests from motor carriers listed below.

DATES: Comments must be submitted by February 26, 2002.

ADDRESSES: Send comments to the U. S. Department of Transportation, Dockets Management System (DMS). You may submit your comments by fax, Internet, in person or via the U.S. mail to the Docket Clerk, Docket No. BTS-2001-11069, Department of Transportation, 400 Seventh Street, SW., Room PL-401, Washington, DC 20590-0001. Please note that due to delays in the delivery of U.S. mail to Federal offices in Washington, DC, we recommend that persons consider an alternative method (the Internet, fax, or professional delivery service) to submit comments to the docket and ensure their timely receipt at U.S. DOT. You may fax your comments to the DMS at (202) 493-2251. If you have provided any correspondence related to any exemption request listed below, please call (202) 366-5685 to verify receipt at U.S. DOT.

If you wish to file comments using the Internet, you may use the DOT DMS website at http://dms.dot.gov. Please follow the online instructions for submitting an electronic comment. Comments should identify the docket number and be submitted in duplicate. If you would like the Department to acknowledge receipt of your comments, you must submit a self-addressed stamped postcard on which the following statement is made: Comments on Docket BTS-2001-11069. The Docket Clerk will date stamp the postcard prior to returning it to you via the U.S. mail. The DMS is open for examination and copying, at the above address, from 9 a.m. to 5 p.m., Monday through Friday, except federal holidays.

FOR FURTHER INFORMATION CONTACT: Russell B. Capelle, Jr., K-13, Bureau of Transportation Statistics, 400 Seventh Street, SW., Washington, DC 20590-0001; (202) 366-5685; fax: (202) 366-3364; e-mail: russ.capelle@bts.gov or Robert A. Monniere, K-2, Bureau of Transportation Statistics, 400 Seventh Street, SW., Washington, DC 20590-0001; (202) 366-5498; fax: (202) 366-3640; e-mail: robert.monniere@bts.gov.

SUPPLEMENTARY INFORMATION:

I. Background

Under 49 U.S.C. 14123 and its implementing regulations at 49 CFR part 1420, BTS collects financial and operating information from for-hire motor carriers of property and household goods. The data are collected on annual Form M, filed by Class I and Class II carriers, and quarterly Form QFR, filed only by Class I carriers. The data are used by the Department of Transportation, other federal agencies, motor carriers, shippers, industry analysts, labor unions, segments of the insurance industry, investment analysts, and the consultants and data vendors that support these users. Among the uses of the data are: (1) Developing financial and operating performance indicators to better measure the trucking industry and the motor carriers' role in the economy; (2) Implementing performance-based government policies; (3) Developing benchmark data for competitive analysis of trucking companies and the basis for industry policies; and (4) Research and analysis by educational institutions.

Generally, all data are made publicly available. A motor carrier can, however, request that its report be withheld from public release, as provided for by statute, 49 U.S.C. 14123(c)(2), and its implementing regulations, 49 CFR 1420.9. BTS will grant a request upon a proper showing that the carrier is not a publicly held corporation or that the carrier is not subject to financial reporting requirements of the Securities and Exchange Commission, and that the exemption is necessary to avoid substantial competitive harm and to avoid the disclosure of information that qualifies as trade secret or privileged or confidential information under 5 U.S.C. 552(b)(4). The carrier must submit a written request containing supporting information. The request must be received or postmarked by the report's due date unless there are extenuating circumstances. Requests covering the quarterly reports must be received by the due date of the annual report that relates to the prior year.

Motor carriers are reminded that an exemption from public release is valid for a period of three years from the date the report was due to BTS, 49 CFR 1420.9(g). After a date three years from the report's due date, unless otherwise required by law, BTS will make these reports available to the public.

In accordance with our regulations, after the due date of each annual report, we will publish a notice in the Federal Register requesting comments on the requests we have received for an exemption from public release. After considering the merits of each request and any public comments, we will make a decision to grant or deny each exemption request. While a decision is pending, we will not publicly release the motor carrier's annual and/or quarterly report(s), except as allowed under 49 CFR 1420.10(c).

II. Request for Comments

BTS invites comments on the following requests for exemption from public release. These requests cover the 1999 & 2000 annual reports and some also cover the 2000 & 2001 quarterly reports. The comments should be made within the context of the governing regulations at 49 CFR 1420.9. For additional information concerning these regulations, the public is encouraged to review the BTS final rule published in March 23, 1999 edition of the Federal Register (64 FR 13916).

The following motor carriers have submitted a request for an exemption from public release and we invite your comments:

Aulick Leasing Corp. (MC# 167541)

B & T Express, Inc. (MC# 194598)

Barr Transportation Corp. (MC# 141335)

Bernard D. Harner & Son, Inc. (MC# 142525)

Bullet Freight System, Inc. (MC# 240746)

C.R. England, Inc. (MC# 124679)

CZ Cartage, Inc. (MC# 272644)

Central States Trucking Co. (MC# 152337)

Central Trucking, Inc. (MC# 155550)

Chickasaw Container Services, Inc. (MC# 176391)

Chuck Foster Trucking, Inc. (MC# 252061)

Comcar Industries, Inc. and its six affiliated companies *

* Coastal Transport, Inc. (MC# 121654)

* Commercial Carrier, Corp. (MC# 115491)

* CTL Distribution, Inc. (MC# 129326)

* MD Transport Systems, Inc. (MC# 136123)

* Midwest Coast Transport, Inc. (MC# 111812)

* Willis Shaw Express, Inc. (MC# 117119)

Coosada Trucking Co., Inc. (MC# 183165)

Cowan Systems, LLC (MC# 271882)

Crewe Transfer, Inc. (MC# 36222)

D & A Truck Line, Inc. (MC# 147545)

Ee-Jay Motor Transports, Inc. (MC# 119422)

H.O. Wolding, Inc. (MC# 142310)

Harry Owen Trucking, Inc. (MC# 160454)

Harvey D. Bailey, Inc. d/b/a Cross Country Cartage (MC# 190669)

Hartwick & Hand, Inc. (MC# 197217)

Hornady Truck Line, Inc. (MC# 121664)

Illinois Armored Car Corporation d/b/a United Armored Services (MC# 157414)

Indiana Western Express (MC# 212622)

Industrial Transfer & Storage, Inc. (MC# 183132)

J & S Transport, Inc. (MC# 178215)

J L J Trucking, Inc. (MC# 200833)

Laris Shelman & Sons Trucking (MC# 222645)

Laura Kopetsky Tri-Ax, Inc. (MC# 259667)

Martin Transport, Inc. (MC# 164594)

McLeod, Inc. (MC# 239540)

Olson Carriers, Inc. (MC# 173716)

Riverton Truckers, Inc. (MC# 250963)

S-J Transportation Company (MC# 150546)

Schneider National and its five affiliated companies *

* Schneider National Carriers, Inc. (MC# 133655)

* Schneider National Bulk Carriers, Inc. (MC# 143594)

* Schneider Specialized Carriers, Inc. (MC# 113855)

* Schneider Tank Lines, Inc. (MC# 110988)

* Schneider Transport, Inc. (MC# 051146)

Security Armored Car Service, Inc. (MC# 134009)

Shelton Trucking Service, Inc. (MC# 124887)

Southern Pride Trucking Company, Inc. (MC# 149343)

T & M Express, Inc. (MC# 269387)

Thomas H. Ireland, Inc. (MC# 244166)

Transportation Services, Inc. (MC# 147039)

Truck Air of Carolinas, Inc. (MC# 167209)

W-H Transportation Co., Inc. (MC# 146329)

Wesco, Inc. (MC# 152643)

If you wish to read the exemption requests and the comments that are submitted in response to this Notice, you must use the DOT Dockets Management System. The DMS is located at the Department of Transportation, 400 Seventh Street, SW., Room PL-401, Washington, DC 20590, and is open from 9 a.m. to 5 p.m., Monday through Friday, except Federal holidays. Internet users can access the DMS at http://dms.dot.gov. Please follow the instructions online for more information and help. You must also use the DMS if you wish to comment on one or more exemption requests. Please follow the instructions listed above under the section ADDRESSES.

Russell B. Capelle, Jr.,
Assistant BTS Director for Motor Carrier Information.

[FR Doc. 01-32023 Filed 12-27-01; 8:45 am]

BILLING CODE 4910-FE-P